SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: November 1 through 30, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22 (e) and (f) for the time period specified above.

Approvals by Rule—Issued Under 18 CFR 806.22(e)

1. Nestle Purina PetCare Company; Nestle Purina PetCare Company; ABR-202511001; Hampden Township, Cumberland County, Pa.; Consumptive Use of Up to 0.0800 mgd; Approval Date: November 12, 2025.

2. BEST BEV, LLC; Waverly Canning Facility; ABR-202511002; Waverly Village, Tioga County, Ny.; Consumptive Use of Up to 0.2000 mgd; Approval Date: November 18, 2025.

Approvals by Rule—Issued Under 18 CFR 806.22(f)

1. RENEWAL—Coterra Energy Inc.; Pad ID: KingD P1; ABR-201009010.R3; Dimock Township, Susquehanna County, Pa.; Consumptive Use of Up to 5.0000 mgd; Approval Date: November 23, 2025.

2. RENEWAL—Coterra Energy Inc.; Pad ID: Maiolini P3; ABR-201008114.R3; Dimock and Auburn Townships, Susquehanna County, Pa.; Consumptive Use of Up to 5.0000 mgd; Approval Date: November 23, 2025.

3. RENEWAL—Coterra Energy Inc.; Pad ID: StockholmK P2; ABR-201008134.R3; Rush Township, Susquehanna County, Pa.; Consumptive Use of Up to 5.0000 mgd; Approval Date: November 23, 2025.

4. RENEWAL—Coterra Energy Inc.; Pad ID: Teel P2; ABR-201508004.R2; Dimock Township, Susquehanna County, Pa.; Consumptive Use of Up to 5.0000 mgd; Approval Date: November 23, 2025.

5. RENEWAL—Coterra Energy Inc.; Pad ID: WarrinerR P4; ABR-201008123.R3; Dimock Township, Susquehanna County, Pa.; Consumptive Use of Up to 5.0000 mgd; Approval Date: November 23, 2025.

6. RENEWAL—Expand Operating LLC; Pad ID: Chamberlin; ABR-201008088.R3; Stevens Township, Bradford County, Pa.; Consumptive Use of Up to 7.5000 mgd; Approval Date: November 23, 2025.

7. RENEWAL—Pennsylvania General Energy Company, L.L.C.; Pad ID: COP Tract 729 Pad C; ABR-201008051.R3; Cummings Township, Lycoming County, Pa.; Consumptive Use of Up to 3.0000 mgd; Approval Date: November 23, 2025.

8. RENEWAL—Pennsylvania General Energy Company, L.L.C.; Pad ID: COP Tract 729 Pad D; ABR-201008052.R3; Cummings Township, Lycoming County, Pa.; Consumptive Use of Up to 3.0000 mgd; Approval Date: November 23, 2025.

9. RENEWAL—Repsol Oil & Gas USA, LLC; Pad ID: AYERS (05 005) K; ABR-201008129.R3; Orwell Township, Bradford County, Pa.; Consumptive Use of Up to 6.0000 mgd; Approval Date: November 23, 2025.

10. RENEWAL—Repsol Oil & Gas USA, LLC; Pad ID: CARPENTER (03 023) K; ABR-201008141.R3; Columbia Township, Bradford County, Pa.; Consumptive Use of Up to 6.0000 mgd; Approval Date: November 23, 2025.

11. RENEWAL—Repsol Oil & Gas USA, LLC; Pad ID: DCNR 587 (02 019); ABR-201008072.R3; Ward Township, Tioga County, Pa.; Consumptive Use of Up to 6.0000 mgd; Approval Date: November 23, 2025.

12. RENEWAL—Repsol Oil & Gas USA, LLC; Pad ID: Hedrick 702; ABR-201007092.R3; Union Township, Tioga County, Pa.; Consumptive Use of Up to 6.0000 mgd; Approval Date: November 23, 2025.

13. RENEWAL—Repsol Oil & Gas USA, LLC; Pad ID: STROPE (05 026) G; ABR-201008152.R3; Windham and Warren Townships, Bradford County, Pa.; Consumptive Use of Up to 6.0000 mgd; Approval Date: November 23, 2025.

14. RENEWAL—Repsol Oil & Gas USA, LLC; Pad ID: YOUNG (05 080) R; ABR-201007080.R3; Warren Township, Bradford County, Pa.; Consumptive Use of Up to 6.0000 mgd; Approval Date: November 23, 2025.

15. RENEWAL—Seneca Resources Company, LLC; Pad ID: Fuleihan 417; ABR-201008073.R3; Delmar Township, Tioga County, Pa.; Consumptive Use of Up to 4.0000 mgd; Approval Date: November 23, 2025.

16. RENEWAL—Seneca Resources Company, LLC; Pad ID: Sticklin 610; ABR-201007113.R3; Delmar Township, Tioga County, Pa.; Consumptive Use of Up to 4.0000 mgd; Approval Date: November 23, 2025.

17. RENEWAL—Coterra Energy Inc.; Pad ID: CosnerW P1; ABR-201009047.R3; Springville Township, Susquehanna County, Pa.; Consumptive Use of Up to 5.0000 mgd; Approval Date: November 26, 2025.

18. RENEWAL—Coterra Energy Inc.; Pad ID: Teel P4; ABR-20080701.R3; Springville Township, Susquehanna County, Pa.; Consumptive Use of Up to 5.0000 mgd; Approval Date: November 26, 2025.

19. RENEWAL—LPR Energy, LLC ; Pad ID: Lightner East Drilling Pad #1; ABR-201009087.R3; Juniata Township, Blair County, Pa.; Consumptive Use of Up to 2.0000 mgd; Approval Date: November 26, 2025.

20. RENEWAL—PPG Operations LLC; Pad ID: Coldstream Affiliates #1MH; ABR-201007051.R3; Goshen Township, Clearfield County, Pa.; Consumptive Use of Up to 3.0200 mgd; Approval Date: November 26, 2025.

21. RENEWAL—PPG Operations LLC; Pad ID: Whitetail #1-5MH; ABR-201008112.R3; Goshen Township, Clearfield County, Pa.; Consumptive Use of Up to 3.0200 mgd; Approval Date: November 26, 2025.

22. RENEWAL—Repsol Oil & Gas USA, LLC; Pad ID: DCNR 594 (02 205); ABR-201008040.R3; Bloss Township, Tioga County, Pa.; Consumptive Use of Up to 6.0000 mgd; Approval Date: November 26, 2025.

23. RENEWAL—Repsol Oil & Gas USA, LLC; Pad ID: DETWEILER (02 100) R; ABR-201008023.R3; Covington Township, Tioga County, Pa.; Consumptive Use of Up to 6.0000 mgd; Approval Date: November 26, 2025.

24. RENEWAL—Repsol Oil & Gas USA, LLC; Pad ID: ROY (03 062) L; ABR-201008089.R3; Wells Township, Bradford County, Pa.; Consumptive Use of Up to 6.0000 mgd; Approval Date: November 26, 2025.

25. RENEWAL—Repsol Oil & Gas USA, LLC; Pad ID: Sparrow Hawk; ABR-201009044.R3; Covington Township, Tioga County, Pa.; Consumptive Use of Up to 6.0000 mgd; Approval Date: November 26, 2025.

26. RENEWAL—Repsol Oil & Gas USA, LLC; Pad ID: Swingle 725; ABR-201007129.R3; Canton Township, Bradford County, Pa.; Consumptive Use of Up to 6.0000 mgd; Approval Date: November 26, 2025.

27. RENEWAL—Repsol Oil & Gas USA, LLC; Pad ID: Yaggie 704; ABR-201006113.R3; Union Township, Tioga County, Pa.; Consumptive Use of Up to 6.0000 mgd; Approval Date: November 26, 2025.

28. RENEWAL—BKV Operating, LLC; Pad ID: Baker 2H; ABR-201008137.R3; Forest Lake Township, Susquehanna County, Pa.; Consumptive Use of Up to 5.0000 mgd; Approval Date: November 28, 2025.

29. RENEWAL—Expand Operating LLC; Pad ID: Tama; ABR-201010057.R3; North Towanda Township, Bradford County, Pa.; Consumptive Use of Up to 7.5000 mgd; Approval Date: November 28, 2025.

30. RENEWAL—Seneca Resources Company, LLC; Pad ID: Hotchkiss 472; ABR-201009045.R3; Charleston Township, Tioga County, Pa.; Consumptive Use of Up to 4.0000 mgd; Approval Date: November 28, 2025.

31. RENEWAL—EQT ARO LLC; Pad ID: Brooks Family Pad A; ABR-201508002.R2; Cascade Township, Lycoming County, Pa.; Consumptive Use of Up to 4.0000 mgd; Approval Date: November 30, 2025.

Authority: Public Law 91-575, 84 Stat. 1509 et seq., 18 CFR parts 806 and 808.

Dated: December 4, 2025.
Jason E. Oyler,
General Counsel and Secretary to the Commission.

[FR Doc. 2025-22254 Filed 12-5-25; 8:45 am]

BILLING CODE 7040-01-P